DEPARTMENT OF LABOR

Employment and Training Administration

[TA-W-51,656]

Springs Industries Customer Service Center Lancaster, South Carolina; Notice of Termination of Investigation

Pursuant to section 221 of the Trade Act of 1974, an investigation was initiated on May 1, 2003, in response to a petition filed on behalf of workers at Springs Industries, Customer Service Center, Lancaster, South Carolina.

The petitioners were separated from the subject firm more than one year prior to the date on the petition. Section 223 (b) of the Act specifies that no certification may apply to any worker whose last separation occurred more than one year before the date of the petition. Consequently, further investigation in this case would serve no purpose, and the investigation has been terminated.

Signed in Washington, DC this 6th day of May 2003.
Elliott S. Kushner,
Certifying Officer, Division of Trade Adjustment Assistance.

[FR Doc. 03-12574 Filed 5-19-03; 8:45 am]

BILLING CODE 4510-30-P